NUCLEAR REGULATORY COMMISSION

[Docket Nos. 50-280 and 50-281; NRC-2018-0247]

Virginia Electric and Power Company; Dominion Energy Virginia; Surry Power Station, Units 1 and 2

AGENCY: Nuclear Regulatory Commission.

ACTION: License renewal application; receipt.

SUMMARY: The U.S. Nuclear Regulatory Commission (NRC) has received an application for the subsequent renewal of Renewed Facility Operating License Nos. DPR-32 and DPR-37, which authorize Virginia Electric and Power Company (Dominion Energy Virginia or the applicant) to operate Surry Power Station (SPS), Units 1 and 2. The renewed licenses would authorize the applicant to operate SPS for an additional 20 years beyond the period specified in each of the current renewed licenses. The current renewed operating licenses for SPS expire as follows: Unit 1 on May 25, 2032, and Unit 2 on January 29, 2033.

DATES: The license renewal application referenced in this document was available on October 24, 2018.

ADDRESSES: Please refer to Docket ID NRC-2018-0247 when contacting the NRC about the availability of information regarding this document. You may obtain publicly-available information related to this document using any of the following methods:

• Federal Rulemaking Website: Go to http://www.regulations.gov and search for Docket ID NRC-2018-0247. Address questions about Regulations.gov Docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Emmanuel Sayoc, Office of Nuclear Reactor Regulation, U.S. Nuclear Regulatory Commission, Washington DC 20555-0001; telephone: 301-415-4084, email: Emmanuel.Sayoc@nrc.gov.

SUPPLEMENTARY INFORMATION: The NRC has received an application (ADAMS Package Accession No. ML18291A842) from Virginia Electric and Power Company (Dominion Energy Virginia or the applicant), dated October 16, 2018, filed pursuant to Section 103 of the Atomic Energy Act of 1954, as amended, and part 54 of title 10 of the Code of Federal Regulations, to renew the operating licenses for SPS. Renewal of the licenses would authorize the applicant to operate the facility for an additional 20-year period beyond the period specified in the respective current renewed operating licenses. The current renewed operating licenses for SPS expire as follows: Unit 1 on May 25, 2032, and Unit 2 on January 29, 2033. The SPS units are Pressurized Water Reactors located in Surry, Virginia. The acceptability of the tendered application for docketing, and other matters, including an opportunity to request a hearing, will be the subject of subsequent Federal Register notices.

A copy of the license renewal application for SPS, is also available for inspection near the site, at the Williamsburg Library, 515 Scotland St., Williamsburg, VA 23185.

Dated at Rockville, Maryland, this 26th day of October 2018.
For the Nuclear Regulatory Commission.
David M. Drucker,
Acting Chief, License Renewal Project Branch, Division of Materials and License Renewal, Office of Nuclear Reactor Regulation.

[FR Doc. 2018-23841 Filed 10-31-18; 8:45 am]

BILLING CODE 7590-01-P